DEPARTMENT OF ENERGY

Federal Energy Regulatory Commission

Combined Notice of Filings #1

Take notice that the Commission received the following electric rate filings:

Docket Numbers: ER10-2739-012; ER14-2499-003; ER10-2755-010; ER10-2751-007; ER10-2743-007.

Applicants: LS Power Marketing, LLC, Oneta Power, LLC, Las Vegas Power Company, LLC, Renaissance Power, L.L.C, Bluegrass Generation Company, L.L.C.

Description: Supplement to December 30, 2015 Updated Market Power Analysis in Southwest Power Pool Region of the LS Power Development, LLC subsidiaries.

Filed Date: 6/9/16.

Accession Number: 20160609-5272.

Comments Due: 5 p.m. ET 6/30/16.

Docket Numbers: ER10-2794-018; ER14-2672-003; ER12-1825-016.

Applicants: EDF Trading North America, LLC, EDF Energy Services, LLC, EDF Industrial Power Services (CA), LLC.

Description: Supplement to December 30, 2015 Updated Market Power Analysis for the Southwest Power Pool Region of the EDF Sellers.

Filed Date: 6/8/16.

Accession Number: 20160608-5113.

Comments Due: 5 p.m. ET 6/29/16.

Docket Numbers: ER16-897-005.

Applicants: California Independent System Operator Corporation.

Description: Compliance filing: 2016-06-09 Filing in Compliance with May 31 Order Delaying CPM Effective Date to be effective 9/25/2016.

Filed Date: 6/9/16.

Accession Number: 20160609-5265.

Comments Due: 5 p.m. ET 6/30/16.

Docket Numbers: ER16-1904-000.

Applicants: ISO New England Inc.

Description: Request for Limited Waiver of ISO New England Inc.

Filed Date: 6/9/16.

Accession Number: 20160609-5275.

Comments Due: 5 p.m. ET 6/30/16.

Docket Numbers: ER16-1905-000.

Applicants: Southwest Power Pool, Inc.

Description: § 205(d) Rate Filing: 3197 KCP&L GMO and City of Galt, MO Interconnection Agr to be effective 6/9/2016.

Filed Date: 6/10/16.

Accession Number: 20160610-5053.

Comments Due: 5 p.m. ET 7/1/16.

Docket Numbers: ER16-1906-000.

Applicants: Wabash Valley Power Association, Inc.

Description: § 205(d) Rate Filing: Revised Amendments to Rate Schedule—Docket No. ER16-1452—Clone to be effective 6/17/2016.

Filed Date: 6/10/16.

Accession Number: 20160610-5074.

Comments Due: 5 p.m. ET 7/1/16.

Docket Numbers: ER16-1907-000.

Applicants: Midcontinent Independent System Operator, Inc.

Description: § 205(d) Rate Filing: 2016-06-10_AS Qualification Filing to be effective 8/9/2016.

Filed Date: 6/10/16.

Accession Number: 20160610-5140.

Comments Due: 5 p.m. ET 7/1/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 10, 2016.
Nathaniel J. Davis, Sr.,
Deputy Secretary.

[FR Doc. 2016-14216 Filed 6-15-16; 8:45 am]

BILLING CODE 6717-01-P